DEPARTMENT OF TRANSPORTATION

Federal Aviation Administration

14 CFR Part 39

[Docket No. FAA-2018-0113; Product Identifier 2017-NM-060-AD; Amendment 39-19710; AD 2019-16-07]

RIN 2120-AA64

Airworthiness Directives; Airbus SAS Airplanes

AGENCY: Federal Aviation Administration (FAA), DOT.

ACTION: Final rule.

SUMMARY: The FAA is superseding Airworthiness Directive (AD) 2016-12-09, which applied to certain Airbus Model A330-200, -200 Freighter, and -300 series airplanes; and Model A340-200 and -300 series airplanes. AD 2016-12-09 requirements included removing existing and installing new fasteners, inspecting for and, if necessary, repairing cracking. This new AD requires repetitive inspections of the fastener holes at a certain frame and applicable on-condition actions, and, for certain airplanes, requires a modification, as specified in European Union Aviation Safety Agency (EASA) ADs, which are incorporated by reference. Also as specified in the EASA ADs, this AD also provide an optional terminating action for certain airplanes, which terminates the inspections. This AD was prompted by reports that cracks were found on an adjacent hole of certain frames of the center wing box (CWB) and a determination that the compliance time specified in AD 2016-12-09 for the modification of the inside CWB must be revised. The FAA is issuing this AD to address the unsafe condition on these products.

DATES: This AD is effective October 22, 2019.

The Director of the Federal Register approved the incorporation by reference of certain publications listed in this AD as of October 22, 2019.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2018-0113.

Examining the AD Docket

You may examine the AD docket on the internet at http://www.regulations.gov by searching for and locating Docket No. FAA-2018-0113; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Discussion

The EASA, which is the Technical Agent for the Member States of the European Union, has issued EASA AD 2018-0249R1, dated July 31, 2019; corrected August 2, 2019 (“EASA AD 2018-0249R1”) (also referred to as the Mandatory Continuing Airworthiness Information, or “the MCAI”), to correct an unsafe condition for certain Airbus SAS Model A330-200, -200 Freighter, and -300 series airplanes; and Model A340-200 and -300 series airplanes.

The FAA issued a supplemental notice of proposed rulemaking (SNPRM) to amend 14 CFR part 39 to supersede AD 2016-12-09, Amendment 39-18558 (81 FR 38573, June 14, 2016) (“AD 2016-12-09”). AD 2016-12-09 applied to certain Airbus Model A330-200, -200 Freighter, and -300 series airplanes, and Model A340-200 and -300 series airplanes. The SNPRM published in the Federal Register on May 23, 2019 (84 FR 23742) (“the SNPRM”). The FAA preceded the SNPRM with a notice of proposed rulemaking (NPRM) that published in the Federal Register on February 26, 2018 (83 FR 8201) (“the NPRM”). The NPRM was prompted by reports that cracks were found on an adjacent hole of certain frames of the CWB. The NPRM proposed to require repetitive inspections of the fastener holes at frame (FR) 40, and, for certain airplanes, proposed to require a modification. The NPRM also proposed to provide an optional terminating action for certain airplanes, which terminates the inspections. The SNPRM proposed to revise the compliance time for the modification of the inside CWB. The FAA is issuing this AD to address cracking of certain holes of certain frames of the CWB, which could affect the structural integrity of the airplane.

Comments

The FAA gave the public the opportunity to participate in developing this final rule. The FAA received no comments on the SNPRM or on the determination of the cost to the public.

New EASA AD

In the SNPRM, the FAA referred to EASA AD 2018-0249, dated November 16, 2018 (“EASA AD 2018-0249”). Since the SNPRM was issued, EASA issued EASA AD 2018-0249R1, which clarifies the conditions for certain actions and removes paragraphs that are not necessary.

The FAA determined that no additional work is required for airplanes that have accomplished the actions as required by EASA AD 2018-0249. Therefore, the FAA has revised all applicable sections in this final rule to also specify EASA AD 2018-0249R1.

Change Made to This Final Rule

The SNPRM included a terminating action paragraph for AD 2016-12-09 (paragraph (j) of the proposed AD). However, AD 2016-12-09 is superseded by this AD; therefore, that terminating action paragraph is not needed. We have removed paragraph (j) of the proposed AD from this AD.

Conclusion

The FAA reviewed the relevant data and determined that air safety and the public interest require adopting this final rule with the changes described previously and minor editorial changes. The FAA has determined that these minor changes:

• Are consistent with the intent that was proposed in the SNPRM for addressing the unsafe condition; and

• Do not add any additional burden upon the public than was already proposed in the SNPRM.

The FAA also determined that these changes will not increase the economic burden on any operator or increase the scope of this final rule.

Related IBR Material Under 1 CFR Part 51

EASA ADs 2018-0249 and 2018-0249R1 describe procedures for repetitive inspections of the fastener holes at the FR40 vertical web of the affected CWB lower panel area for any cracking, and on-condition actions; modification of the inside CWB and an optional terminating action (modification of fastener holes by cold-working), which terminates the repetitive inspections. On-condition actions include installing new fasteners, additional inspections, repair, and modification. These documents are distinct since AD 2018-0249R1 clarifies the conditions for certain actions, removes paragraphs that are not necessary, and provides credit for certain alternative methods of compliance. This material is reasonably available because the interested parties have access to it through their normal course of business or by the means identified in the ADDRESSES section.

Costs of Compliance

The FAA estimates that this AD affects 103 airplanes of U.S. registry.

The FAA estimates the following costs to comply with this AD:

Estimated Costs for Required Actions
Action | Labor cost | Parts cost | Cost per product | Cost on U.S. operators
Retained actions from AD 2016-12-09 | Up to 155 work-hours × $85 per hour = Up to $13,175 | $0 | Up to $13,175 | Up to $1,357,025.
New actions | Up to 145 work-hours × $85 per hour = Up to $12,325 | Up to $650 | Up to $12,975 | Up to $1,336,425.

Estimated Costs for Optional Actions
Labor cost | Parts cost | Cost per product
Up to 145 work-hours × $85 per hour = Up to $12,325 | Up to $621 | Up to $12,946.

The FAA estimates the following costs to do any necessary on-condition actions that would be required based on the results of any required actions. The FAA has no way of determining the number of aircraft that might need these on-condition actions:

Estimated Costs of On-Condition Actions
Labor cost | Parts cost | Cost per product
Up to 105 work-hours × $85 per hour = Up to $8,925 | Up to $22,488 | Up to $31,413.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2016-12-09, Amendment 39-18558 (81 FR 38573, June 14, 2016), and adding the following new AD:

2019-16-07 Airbus SAS: Amendment 39-19710; Docket No. FAA-2018-0113; Product Identifier 2017-NM-060-AD.

(a) Effective Date

This AD is effective October 22, 2019.

(b) Affected ADs

This AD replaces AD 2016-12-09, Amendment 39-18558 (81 FR 38573, June 14, 2016) (“AD 2016-12-09”).

(c) Applicability

This AD applies to Airbus SAS Model airplanes identified in paragraphs (c)(1) through (5) of this AD, certificated in any category, as identified in European Union Aviation Safety Agency (EASA) AD 2018-0249R1, dated July 31, 2019; corrected August 2, 2019 (“EASA AD 2018-0249R1”).

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(d) Subject

Air Transport Association (ATA) of America Code 57, Wings.

(e) Reason

This AD was prompted by reports that cracks were found on an adjacent hole of certain frames of the center wing box (CWB) and a determination that the compliance time specified in AD 2016-12-09 for the modification of the inside CWB must be revised. The FAA is issuing this AD to address cracking of certain holes of certain frames of the CWB, which could affect the structural integrity of the airplane.

(f) Compliance

Comply with this AD within the compliance times specified, unless already done.

(g) Requirements

Except as specified in paragraph (h) of this AD: Comply with all required actions and compliance times specified in, and in accordance with, EASA AD 2018-0249, dated November 16, 2018 (“EASA AD 2018-0249”) or EASA AD 2018-0249R1.

(h) Exceptions to EASA ADs 2018-0249 and 2018-0249R1

(1) For purposes of determining compliance with the requirements of this AD: Where EASA ADs 2018-0249 and 2018-0249R1 refer to the effective date of EASA AD 2018-0249 or the effective date of EASA AD 2017-0069, this AD requires using the effective date of this AD.

(2) For purposes of determining compliance with the requirements of this AD: Where EASA ADs 2018-0249 and 2018-0249R1 refer to the effective date of EASA AD 2014-0149, this AD requires using June 29, 2016 (the effective date of AD 2016-12-09).

(3) The “Remarks” sections of EASA ADs 2018-0249 and 2018-0249R1 do not apply to this AD.

(4) The EASA alternative method of compliance (AMOC) approvals specified in paragraph (15) of EASA AD 2018-0249R1 do not apply to this AD.

(i) Reference to Manufacturer Serial Numbers for Airbus Technical Dispositions

Figure 1 to paragraph (i) of this AD identifies the Airbus Technical Dispositions specified in paragraph (9) of EASA ADs 2018-0249 and 2018-0249R1 and their associated manufacturer serial numbers.

(j) No Reporting Requirement

Although the service information referenced in EASA ADs 2018-0249 and 2018-0249R1 specifies to submit certain information to the manufacturer, this AD does not include that requirement.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0249 or EASA AD 2018-0249R1 that contains RC procedures and tests: Except as required by paragraph (k)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

For more information about this AD, contact Vladimir Ulyanov, Aerospace Engineer, International Section, Transport Standards Branch, FAA, 2200 South 216th St., Des Moines, WA 98198; telephone and fax: 206-231-3229.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0249, dated November 16, 2018.

(ii) European Union Aviation Safety Agency (EASA) AD 2018-0249R1, dated July 31, 2019; corrected August 2, 2019.

(3) For EASA AD 2018-0249 and EASA AD 2018-0249R1, contact the EASA, Konrad-Adenauer-Ufer 3, 50668 Cologne, Germany; telephone +49 221 89990 6017; email ADs@easa.europa.eu; Internet www.easa.europa.eu. You may find these EASA ADs on the EASA website at https://ad.easa.europa.eu.

Note 1 to paragraph (m)(3): EASA AD 2018-0249 can be accessed in the zipped file at the bottom of the web page for EASA AD 2018-0249R1. When EASA posts a revised AD on their website, they watermark the previous AD as “Revised,” alter the file name by adding “_revised” to the end, and move it into a zipped file attached at the bottom of the AD web page.

(4) You may view these EASA ADs at the FAA, Transport Standards Branch, 2200 South 216th St., Des Moines, WA. For information on the availability of this material at the FAA, call 206-231-3195. EASA AD 2018-0249 and EASA AD 2018-0249R1 may be found in the AD docket on the internet at http://www.regulations.gov by searching for and locating Docket No. FAA-2018-0113.

(5) You may view this service information that is incorporated by reference at the National Archives and Records Administration (NARA). For information on the availability of this material at NARA, email fedreg.legal@nara.gov, or go to: http://www.archives.gov/federal-register/cfr/ibr-locations.html.

Issued in Des Moines, Washington, on August 9, 2019.
Michael Kaszycki,
Acting Director, System Oversight Division, Aircraft Certification Service.

[FR Doc. 2019-19913 Filed 9-16-19; 8:45 am]

BILLING CODE 4910-13-P